FEDERAL COMMUNICATIONS COMMISSION

47 CFR Part 73

[DA 02-58; MM Docket No. 00-161; RM-9929]

Radio Broadcasting Services; Fort Bridger, WY and Woodruff, UT

AGENCY: Federal Communications Commission.

ACTION: Proposed rule; denial.

SUMMARY: The Allocations Branch denies the petition for rule making filed by M. Kent Frandsen proposing the reallotment of Channel 256C1 from Fort Bridger, Wyoming to Woodruff, Utah, as the community's first local aural transmission service. See 65 FR 55930, September 15, 2000. We find no compelling public interest benefit in removing the sole local service at Fort Bridger, Wyoming to provide a first local service at Woodruff, Utah.

FOR FURTHER INFORMATION CONTACT: Sharon P. McDonald, Mass Media Bureau, (202) 418-2180.

SUPPLEMENTARY INFORMATION: This is a synopsis of the Commission's Report and Order, MM Docket No. 00-161, adopted January 2, 2002, and released January 11, 2002. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

Federal Communications Commission.
John A. Karousos,
Chief, Allocations Branch, Policy and Rules Division, Mass Media Bureau.

[FR Doc. 02-2619 Filed 2-1-02; 8:45 am]

BILLING CODE 6712-01-P